DEPARTMENT OF THE INTERIOR

National Park Service

[2253-665]

Notice of Intent To Repatriate Cultural Items: U.S. Department of Defense, Army Corps of Engineers, Walla Walla District, Walla Walla, WA, and the Alfred W. Bowers Laboratory of Anthropology, University of Idaho, Moscow, ID

AGENCY: National Park Service, Interior.

ACTION: Notice.

SUMMARY: The United States Department of Defense, Army Corps of Engineers, Walla Walla District, in consultation with the appropriate Indian tribe, has determined that the cultural items meet the definition of unassociated funerary objects and repatriation to the Indian tribe stated below may occur if no additional claimants come forward. Representatives of any Indian tribe that believes itself to be culturally affiliated with the cultural items may contact the U.S. Department of Defense, Army Corps of Engineers, Walla Walla District.

DATES: Representatives of any Indian tribe that believes it has a cultural affiliation with the cultural items should contact the U.S. Department of Defense, Army Corps of Engineers, Walla Walla District at the address below by May 2, 2012.

ADDRESSES: LTC David Caldwell, U.S. Department of Defense, Army Corps of Engineers, Walla Walla District, 201 North Third Ave., Walla Walla, WA 99362, telephone (509) 527-7700.

SUPPLEMENTARY INFORMATION: Notice is here given in accordance with the Native American Graves Protection and Repatriation Act (NAGPRA), 25 U.S.C. 3005, of the intent to repatriate cultural items under the control of the U.S. Department of Defense, Army Corps of Engineers, Walla Walla District (Corps), Walla Walla, WA, and in the physical custody of the Alfred W. Bowers Laboratory of Anthropology, University of Idaho (UI), Moscow, ID, that meet the definition of unassociated funerary objects under 25 U.S.C. 3001.

This notice is published as part of the National Park Service's administrative responsibilities under NAGPRA, 25 U.S.C. 3003(d)(3). The determinations in this notice are the sole responsibility of the museum, institution or Federal agency that has control of the cultural items. The National Park Service is not responsible for the determinations in this notice.

History and Description of the Cultural Items

In 1964, a Washington State University (WSU) team excavated sites 10NP1 (near Captain John Creek) and 10NP27 (near Buffalo Draw) on the east side of the Snake River, in Nez Perce County, ID. Sites 10NP1 and 10NP27 are located on lands that were to be inundated for the Asotin Dam Reservoir, which was never constructed. While the sites are not on Corps property, the Corps has taken responsibility for the objects collected at the sites. Unassociated funerary objects from the sites were removed and transported to WSU, and were transferred to UI in 2000. Human remains with associated funerary objects from these two sites are included in a corresponding Notice of Inventory Completion. From site 10NP1, the 11 unassociated funerary objects include 1 lot of fragmented mammal bones; 1 charcoal sample; 1 piece of mussel shell; 1 piece of debitage; 5 snail shells; 1 soil sample; and 1 lot of rocks. From site 10NP27, the 44 unassociated funerary objects include 2 pieces of burned mammal bone; 1 burned rodent jaw; 28 pieces of debitage; 8 pipe bowl fragments; 1 projectile point; 1 projectile point base; 2 modified flakes; and 1 charcoal sample.

According to the 1969 survey report, the burials at site 10NP1 were typical of the late prehistoric period. The burials contained the partial skeletal remains of an adult male and an adult female, both arranged in flexed positions. Each individual was wrapped in tule matting, lay on an east-west axis and faced west toward the Snake River. According to the report, a subsurface cairn containing a hopper mortar had been constructed directly above the burial. The site is in the zone of exploitation of the Nez Perce village of ?ilaqatpá?tpo.

In 1973, a UI team led by Roderick Sprague excavated sites 10NP109 (Upper Tammany), 10NP110 (Lower Tammany), and 10NP131 (Tammany Talus) near the confluence of Tammany Creek with the Snake River in Nez Perce County, ID. Sites 10NP109, 10NP110 and 10NP131 are located within the Lower Granite Lock and Dam Project on the Snake River. The Lower Granite Lock and Dam Project is managed by the Corps, who initiated a land acquisition processes for the Project in 1965. Human remains from these sites were reburied in 1978 at the Hill Top Cemetery in Spalding, ID, as part of the Nez Perce Grave Removal Project (NPGRP). The objects from these burials meet the definition of unassociated funerary objects.

Site 10NP109 contained 17 heavily potted burials. Unassociated funerary objects were recovered from Burials 4, 5, 7, 8, 10, 12, 14 and 16. The 61 unassociated funerary objects include 2 charcoal samples, 18 charcoal/organic samples, 1 chert projectile point, 6 copper fragments, 1 piece of chert debitage, 3 dentalium shell beads, 4 dentalium bead fragments, 18 dentalium shell fragments, 1 mussel shell pendant, 1 mussel shell, 5 mussel shell fragments and 1 water-snail shell. Objects from site10NP109 may date to the late prehistoric or protohistoric period due to the abundance of dentalia shells and the presence of iron and copper objects combined with a lack of glass trade beads. Human remains recovered from this site were examined by a physical anthropologist and one individual exhibited signs of fronto-occipital deformation, a common trait found in Native American remains.

Site 10NP110 contained 45 badly disturbed burials. Unassociated funerary objects were recovered from Burials 2-4, 11, 14, 16-19, 21-23, 25-45, and other unknown burial numbers. The 658 unassociated funerary artifacts include 1 hollowed bone fragment; 7 mammal bones (size not specified); 11 small mammal bones; 9 medium mammal bones; 20 large mammal bones; 1 elk antler; 11 charcoal samples; 1 copper pendant; 6 pieces of debitage; 535 dentalium shell; 4 dentalium shell fragments; 17 mussel shells; 1 lot of mussel shell; 1 piece of melted glass; 1 piece of granite; 11 ochre samples; 5 pestles; 2 pipe stem/bowls; 2 projectile points; 1 seed pod; 8 shell pendants; 1 piece of unidentified metal; 1 wood sample; and 1 lot of wood. Objects from site 10NP110 may date to the late prehistoric or protohistoric age due to the position of the burials, the abundance of dentalia shells and the characteristic application of red ochre to the human remains prior to burial. Human remains recovered from this site were examined by a physical anthropologist. Ten individuals exhibited signs of fronto-occipital deformation and two individuals exhibited signs of fronto-lambdoidal deformation, a common trait found in Native American remains.

Site 10NP131 contained 10 disturbed burials. Unassociated funerary objects were recovered from Burials 1, 2, 3, 4, 5, 7, 9, and other unidentified burials. The 52 unassociated funerary objects include 1 biface; 1 hollowed out bone artifact; 1 bone fragment; 1 piece of mammal bone; 1 triangular brass plate; 1 charcoal sample; 1 piece of charcoal; 3 pieces of debitage; 8 pieces of modified debitage; 2 dentalium beads; 2 mussel shells; 1 shell bead; 1 drill; 1 piece of matting; 15 metal fragments; 1 piece of red ochre; 1 stone pendant; 3 pieces of saw-cut lumber; 1 wood sample; 2 miscellaneous lithics; 2 charcoal pieces with 1 dentalium fragment; and 2 pestle fragments. Objects from site 10NP131 may date to the late prehistoric or protohistoric period, most likely prior to A.D. 1750, based on the position of the remains and the presence of dentalia shells, iron and copper objects, and a lack of glass trade beads. Westerly-orientated cairn burials are typical of the Lower Snake River region in the late prehistoric period.

Sites 10NP109, 10NP110 and 10NP131 are located near the historically important Nez Perce site Hasotino, meaning “the great eel fishery,” which was reported by H.J. Spinden in 1908. This site is located within the judicially established land area of the Nez Perce Tribe, Idaho.

Five lines of evidence—geographical, biological, archeological, anthropological and historical—support a cultural affiliation between the Nez Perce Tribe, Idaho, and the unassociated funerary objects identified in all of the sites above.

Determinations Made by the U.S. Department of Defense, Army Corps of Engineers, Walla Walla District

Officials of the U.S. Department of Defense, Army Corps of Engineers, Walla Walla District, have determined that:

• Pursuant to 25 U.S.C. 3001(3)(B), the 826 cultural items described above are reasonably believed to have been placed with or near individual human remains at the time of death or later as part of the death rite or ceremony and are believed, by a preponderance of the evidence, to have been removed from specific burial sites of Native American individuals.

• Pursuant to 25 U.S.C. 3001(2), there is a relationship or shared group identity that can be reasonably traced between the unassociated funerary objects and the Nez Perce Tribe, Idaho.

Additional Requestors and Disposition

Representatives of any other Indian tribe that believes itself to be culturally affiliated with the unassociated funerary objects should contact LTC David Caldwell, U.S. Department of Defense, Army Corps of Engineers, Walla Walla District, 201 North Third Ave., Walla Walla, WA 99362, telephone (509) 527-7700, before May 2, 2012. Repatriation of the unassociated funerary objects to the Nez Perce Tribe, Idaho, may proceed after that date if no additional claimants come forward.

The U.S. Department of Defense, Army Corps of Engineers, Walla Walla District, is responsible for notifying the Nez Perce Tribe, Idaho, that this notice has been published.

Dated: March 28, 2012.
Sherry Hutt,
Manager, National NAGPRA Program.

[FR Doc. 2012-7873 Filed 3-30-12; 8:45 am]

BILLING CODE 4312-50-P